DEPARTMENT OF AGRICULTURE

Forest Service

National Advisory Committee for Implementation of the National Forest System Land Management Planning Rule; Correction

AGENCY: USDA Forest Service.

ACTION: Notice; correction.

SUMMARY: The Forest Service published a notice in the Federal Register on December 29, 2011, concerning the intent to establish an advisory committee and call for nominations. The document contained incorrect dates. The published document contained a due date for nominations of February 13, 2012. The correction is February 21, 2012.

FOR FURTHER INFORMATION CONTACT: Tony Tooke, U.S. Department of Agriculture, Forest Service, National Forest System, Ecosystem Management Coordination; telephone: (202) 205-0830, fax: (202) 205-1758, or email: ttooke@fs.fed.us. Individuals who use telecommunication devices for the deaf (TDD) may call the Federal Information Relay Service (FIRS) at 1 (800) 877-8339 between 8 a.m. and 8 p.m., Eastern Standard Time, Monday through Friday.

Correction

In the Federal Register of December 29, 2011, in FR doc. 2011-33535, on page 81911, in the first column, correct the “Dates” caption to read:

Written nominations must be received by February 21, 2012. Nominations must contain a completed application packet that includes the nominee's name, resume, and completed form AD-755 (Advisory Committee Membership Background Information). The form AD-755 may be obtained from Forest Service contact person or from the following Web site: http://www.fs.usda.gov/Internet/FSE_DOCUMENTS/stelprdb5203568.pdf . The package must be sent to the address below.

Dated: December 30, 2011.
Pearlie S. Reed,
Assistant Secretary of Administration.

[FR Doc. 2011-33823 Filed 1-4-12; 8:45 am]

BILLING CODE 3410-11-P